DEPARTMENT OF HEALTH AND HUMAN SERVICES

Centers for Disease Control and Prevention

[30Day-09-0571]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Minimum Data Elements (MDEs) for the National Breast and Cervical Cancer Early Detection Program (NBCCEDP) (OMB# 0920-0571 exp. 1/31/2010)—Extension—National Center for Chronic Disease Prevention and Health Promotion (NCCDPHP), Centers for Disease Control and Prevention (CDC).

Background and Brief Description

Congress established the National Breast and Cervical Cancer Early Detection Program (NBCCEDP) in 1991 by enacting the Breast and Cervical Cancer Mortality Prevention Act of 1990. This legislation authorized the Centers for Disease Control and Prevention (CDC) to provide funding to states for the development and maintenance of early detection programs designed to ensure that under-served, low income, and under-insured women receive access to breast and cervical cancer screening services. Services provided through the NBCCEDP include clinical breast examinations, mammograms and Pap tests, timely and adequate diagnostic testing for abnormal results, and referrals to appropriate treatment. The NBCCEDP has operated for 19 years and currently funds 68 programs including all 50 states, five U.S. Territories, 12 American Indian/Alaska Native organizations and the District of Columbia.

NBCCEDP awardees collect patient-level screening and tracking data to manage the program and clinical services, and transmit a de-identified subset of data on patient demographics, screening tests and outcomes to CDC twice per year (Minimum Data Elements (MDEs) for the NBCCEDP, OMB No. 0920-0571, exp. 1/31/2010). CDC requests OMB approval to continue electronic information collection for three additional years.

CDC uses the MDEs to monitor and evaluate NBCCEDP awardees; improve the availability and quality of screening and diagnostic services for underserved women; develop outreach strategies for women who are never or rarely screened for breast and cervical cancer; and report program results to Congress and other legislative authorities. There are no costs to respondents other than their time. The total estimated annualized burden hours are 544.

Estimated Annualized Burden Hours
Type of respondents | Number of respondents | Number of responses per respondent | Average burden per response (in hours)
NBCCEDP Grantees | 68 | 2 | 4

Dated: September 11, 2009.
Maryam I. Daneshvar,
Acting Reports Clearance Officer, Centers for Disease Control and Prevention.

[FR Doc. E9-22653 Filed 9-18-09; 8:45 am]

BILLING CODE 4163-18-P